DEPARTMENT OF HOMELAND SECURITY

U.S. Customs and Border Protection

Accreditation and Approval of Saybolt LP (Clarksville, IN) as a Commercial Gauger

AGENCY: U.S. Customs and Border Protection, Department of Homeland Security.

ACTION: Notice of accreditation and approval of Saybolt LP (Clarksville, IN), as a commercial gauger.

SUMMARY: Notice is hereby given, pursuant to CBP regulations, that Saybolt LP (Clarksville, IN), has been approved to gauge petroleum and certain petroleum products for customs purposes for the next three years as of July 18, 2017.

DATES: Saybolt LP (Clarksville, IN) was approved and accredited as a commercial gauger and laboratory as of July 18, 2017. The next triennial inspection date will be scheduled for July 2020.

FOR FURTHER INFORMATION CONTACT: Christopher J. Mocella, Laboratories and Scientific Services Directorate, U.S. Customs and Border Protection, 1300 Pennsylvania Avenue NW, Suite 1500N, Washington, DC 20229, tel. 202-344-1060.

SUPPLEMENTARY INFORMATION: Notice is hereby given pursuant to 19 CFR 151.13, that Saybolt LP, 905C Eastern Blvd., Clarksville, IN 47129, has been approved to gauge petroleum and certain petroleum products for customs purposes in accordance with the provisions of 19 CFR 151.13. Saybolt LP (Clarksville, IN) is approved for the following gauging procedures for petroleum and certain petroleum products from the American Petroleum Institute (API):

API chapters | Title
2 | Tank Calibration.
3 | Tank Gauging.
4 | Proving Systems.
5 | Metering.
6 | Metering Assemblies.
7 | Temperature Determination.
8 | Sampling.
9 | Density Determinations.
11 | Physical Properties.
12 | Calculations.
14 | Natural Gas Fluids Measurement.
17 | Maritime Measurement.

Anyone wishing to employ this entity to conduct gauger services should request and receive written assurances from the entity that it is approved by the U.S. Customs and Border Protection to conduct the specific gauger service requested. Alternatively, inquiries regarding the specific gauger service this entity is approved to perform may be directed to the U.S. Customs and Border Protection by calling (202) 344-1060. The inquiry may also be sent to CBPGaugersLabs@cbp.dhs.gov. Please reference the website listed below for a complete listing of CBP approved gaugers and accredited laboratories. http://www.cbp.gov/about/labs-scientific/commercial-gaugers-and-laboratories.

Dated: February 14, 2018.
James D. Sweet,
Acting Executive Director, Laboratories and Scientific Services.

[FR Doc. 2018-03602 Filed 2-21-18; 8:45 am]

BILLING CODE 9111-14-P